DEPARTMENT OF AGRICULTURE

Cooperative State Research, Education, and Extension Service

Integrated Research, Education, and Extension Competitive Grants Program—National Food Safety Initiative: Request for Proposals and Request for Input

AGENCY: Cooperative State Research, Education, and Extension Service, USDA.

ACTION: Notice of request for proposals and request for input.

SUMMARY: The Cooperative State Research, Education and Extension Service (CSREES) announces the availability of grant funds and requests proposals for the Integrated Research, Education, and Extension Competitive Grants Program—National Food Safety Initiative for fiscal year (FY) 2000 to support integrated, multifunctional agricultural research, extension, and education activities that address food safety priorities in United States agriculture. The amount available for support of this program in FY 2000 is approximately $14,277,000.

This notice sets out the objectives for these projects, the eligibility criteria for projects and applicants, the application procedures, and the set of instructions needed to apply for a Food Safety grant under this authority.

By this notice, CSREES additionally solicits stakeholder input from any interested party regarding the FY 2000 Integrated Research, Education, and Extension Competitive Grants Program—National Food Safety Initiative for use in the development of any future requests for proposals for this program.

DATES: Proposals must be transmitted by June 6, 2000, as indicated by the postmark or date on courier bill of lading. Proposals transmitted after this date will not be considered for funding. Comments regarding this request for proposals are requested within six months from the issuance of this notice. Comments received after that date will be considered to the extent practicable.

ADDRESSES: The address for hand-delivered proposals or proposals submitted using an express mail or overnight courier service is: Integrated Research, Education, and Extension Competitive Grants Program—National Food Safety Initiative; c/o Proposal Services Unit; Cooperative State Research, Education, and Extension Service; U.S. Department of Agriculture; Room 303, Aerospace Center; 901 D Street, S.W.; Washington, D.C. 20024.

Proposals sent via the U.S. Postal Service must be sent to the following address: Integrated Research, Education, and Extension Competitive Grants Program—National Food Safety Initiative; Cooperative State Research, Education, and Extension Service; U.S. Department of Agriculture; STOP 2245; 1400 Independence Avenue, S.W.; Washington, D.C. 20250-2245.

Written user comments should be submitted by first-class mail to: Policy and Program Liaison Staff; Office of Extramural Programs; USDA-CSREES; STOP 2299; 1400 Independence Avenue, S.W.; Washington, D.C. 20250-2299; or via e-mail to: RFP-OEP@reeusda.gov. In your comments, please include the name of the program and the fiscal year of the RFP to which you are responding.

FOR FURTHER INFORMATION: Applicants and other interested parties are encouraged to contact Dr. Jan Singleton; National Program Leader, Food Science and Food Safety; Plant and Animal Systems Unit; Cooperative State Research, Education, and Extension Service; U.S. Department of Agriculture; STOP 2220; 1400 Independence Avenue, S.W.; Washington, D.C. 20250-2220; telephone: (202) 401-1954; fax: (202) 401-5179; email: jsingleton@reeusda.gov.

SUPPLEMENTARY INFORMATION:

Table of Contents

Stakeholder Input

Catalog of Federal Domestic Assistance

Part I—General Information

A. Legislative Authority and Background

B. Purpose, Priorities, and Fund Availability

C. Definitions

D. Eligibility

E. Matching Requirements

F. Funding Restrictions

G. Types of Grant Instruments

H. Funding Mechanisms

Part II—Program Description

A. Project Types

B. Program Area Description

C. Expected Program Outputs and Reporting Requirements

Part III—Preparation of a Proposal

A. Program Application Materials

B. Content of Proposals

C. Submission of Proposals

D. Acknowledgment of Proposals

Part IV—Review Process

A. General

B. Evaluation Factors

C. Conflicts-of-Interest and Confidentiality

Part V—Additional Information

A. Access to Review Information

B. Grant Awards

C. Use of Funds; Changes

D. Applicable Federal Statues and Regulations

E. Confidential Aspects of Proposals and Awards

F. Regulatory Information

Stakeholder Input

CSREES is soliciting comments regarding this solicitation of applications from any interested party. These comments will be considered in the development of any future RFP for the program. Such comments will be forwarded to the Secretary or his designee for use in meeting the requirements of section 103(c)(2) of the Agricultural Research, Extension, and Education Reform Act of 1998 (7 U.S.C. 7613(c)(2)). This section requires the Secretary to solicit and consider input on a current RFP from persons who conduct or use agricultural research, education and extension for use in formulating future RFPs for competitive programs. Comments should be submitted as provided for in the ADDRESSES and DATES portions of this Notice.

Catalog of Federal Domestic Assistance

This program is listed in the Catalog of Federal Domestic Assistance under 10.303, Integrated Research, Education, and Extension Competitive Grants Program.

Part I—General Information

A. Legislative Authority and Background

Section 406 of the Agricultural Research, Extension, and Education Reform Act of 1998 (AREERA) (7 U.S.C. 7626) authorized the Secretary of Agriculture to establish a research, education, and extension competitive grants program to provide funding for integrated, multifunctional agricultural research, extension, and education activities. Subject to the availability of appropriations to carry out this program, the Secretary may award grants to colleges and universities (as defined by 1404 of the National Agricultural Research, Extension, and Teaching Policy Act of 1977 (NARETPA) (7 U.S.C. 3103)) on a competitive basis for integrated research, education, and extension projects. Grants are to be awarded to address priorities in United States agriculture that involve integrated research, education, and extension activities as determined by the Secretary in consultation with the National Agricultural Research, Extension, Education, and Economics Advisory Board.

On November 19, 1999, the Secretary published in the Federal Register (64 FR 63560) a notice that the administration of this grant program had been delegated to the Cooperative State Research, Education, and Extension Service (CSREES). This notice also solicited public comment from persons who use or conduct research, extension, or education regarding the priorities to be addressed by this new program. In addition, this notice announced a public meeting to obtain comments to use in developing the proposed rule and requests for proposals for this new grant program. The public meeting was held on December 6, 1999. All the comments and the official transcript of the meeting have been made available for review on the CSREES web page (http://www.reeusda.gov/integrated/). This RFP was developed in consultation with the Advisory Board. In addition, the comments and testimonies from the December 6, 1999, public meeting were considered in the formulation of this RFP.

The entire program is funded in FY 2000 at $37,637,702 (after deduction for administrative expenses) for the following integrated activities: Water Quality ($12,374,115), Food Safety ($14,277,277), Pesticide Impact Assessment ($4,322,310), Crops at Risk from Food Quality and Protection Act (FQPA) Implementation ($952,000), FQPA Risk Mitigation Program for Major Food Crop Systems ($3,808,000), and Methyl Bromide Transition Program ($1,904,000). There will be three RFP's for this program. The Water Quality and Food Safety Programs will each have a separate RFP, while the latter four programs will be announced as one RFP. This notice announces and describes the Food Safety component of the Program.

CSREES will administer the Integrated Research, Education, and Extension Competitive Grants Program by determining priorities in United States agriculture through Agency stakeholder input processes and in consultation with the National Agricultural Research, Extension, Education, and Economics Advisory Board. Each RFP for the different program areas (i.e., Water Quality, Food Safety, etc.) will be developed each fiscal year based on these established priorities and the resulting determined approaches to solving these critical agricultural issues. Although this overall grant program seeks to solve critical agricultural issues through an integration of research, education, and extension activities, a component of a RFP, depending on the priority being addressed and/or the stage at which the priority is being addressed, may request proposals that are research, education, or extension only, or a combination thereof. However, the overall overarching approach to solving the critical agricultural issue, priority, or problem will be through an integration of research, education, and extension activities within each individual program area.

B. Purpose, Priorities, and Fund Availability

The purpose of the National Food Safety Initiative is to support projects that address selected priority issues in food safety and demonstrate an integrated approach to solving problems in food safety research, education, and extension as described in this RFP. Various models for integration of research, education, and extension will be considered for funding. Proposals describing multistate, multi-institutional, multidisciplinary, and/or multifunctional activities (and combinations thereof) are acceptable. However, special emphasis will be given to proposals describing multifunctional activities that integrate research, education, and extension (i.e. those that contain research, education, and extension components).

The component areas described below address priority issues in food safety that were identified by stakeholders during a series of public meetings held to solicit program input from various users of food safety information at the local, state, regional, and national levels. Interdepartmental food safety priorities and those supported by the Presidential Food Safety Initiative were also considered in the development of this RFP.

There is no commitment by USDA to fund any particular proposal or to make a specific number of awards. Approximately $14,277,000 will be available to fund proposals in FY 2000. Proposals are being solicited in 12 component areas: (1) Qualitative and Quantitative Risk Assessments; (2) Control Measures for Food-Borne Microbial Pathogens; (3) Sources and Incidence of Microbial Pathogens; (4) Antibiotic Resistant Microbial Pathogens; (5) Improving the Safety of Fresh Fruits and Vegetables; (6) Food Handler Education and Training for Consumer and Youth; (7) Food Handler Education for High-risk and Hard-to-reach Audiences; (8) Food Handler Education for Commercial and Non-Commercial Audiences; (9) Hazard Analysis and Critical Control Points Model Development, Testing and Implementation; and (10) Integrating Food Safety into Related Agricultural Problems. In addition, proposals are being solicited for (11) National Coordination of Integrated Food Safety Programs and Resources and a (12) National Center for Home Food Processing and Preservation.

C. Definitions

For the purpose of awarding grants under this program, the following definitions are applicable:

(1) Administrator means the Administrator of the Cooperative State Research, Education, and Extension Service (CSREES) and any other officer or employee of the Department to whom the authority involved my be delegated.

(2) Authorized departmental officer means the Secretary or any employee of the Department who has the authority to issue or modify grant instruments on behalf of the Secretary.

(3) Authorized organizational representative means the president or chief executive officer of the applicant organization or the official, designated by the president or chief executive officer of the applicant organization, who has the authority to commit the resources of the organization.

(4) Budget period means the interval of time (usually 12 months) into which the project period is divided for budgetary and reporting purposes.

(5) Cash contributions means the applicant's cash outlay, including the outlay of money contributed to the applicant by non-Federal third parties.

(6) Department or USDA means the United States Department of Agriculture.

(7) Education activity means formal classroom instruction, laboratory instruction, and practicum experience in the food and agricultural sciences and other related matters such as faculty development, student recruitment and services, curriculum development, instructional materials and equipment, and innovative teaching methodologies.

(8) Extension activity means an act or process that delivers science-based knowledge and informal educational programs to people, enabling them to make practical decisions.

(9) Grant means the award by the Secretary of funds to an eligible organization or individual to assist in meeting the costs of conducting, for the benefit of the public, an identified project which is intended and designed to accomplish the purpose of the program as identified in these guidelines.

(10) Grantee means an organization designated in the grant award document as the responsible legal entity to which a grant is awarded.

(11) Integrated means to bring the three components of the agricultural knowledge system (research, education, and extension) together around a problem area or activity.

(12) Matching means that portion of allowable project costs not borne by the Federal Government, including the value of in-kind contributions.

(13) Peer review means an evaluation of a proposed project for scientific or technical quality and relevance performed by experts with the scientific knowledge and technical skills to conduct the proposed work or to give expert advice on the merits of a proposal.

(14) Principal investigator/Project director means the single individual designated by the grantee in the grant application and approved by the Secretary who is responsible for the direction and management of the project.

(15) Prior approval means written approval evidencing prior consent by an authorized departmental officer as defined in (2) above.

(16) Project means the particular activity within the scope of the program supported by a grant award.

(17) Project period means the period, as stated in the award document and modifications thereto, if any, during which Federal sponsorship begins and ends.

(18) Research activity means a scientific investigation or inquiry that results in the generation of knowledge.

(19) Secretary means the Secretary of Agriculture and any other officer or employee of the Department to whom the authority involved may be delegated.

(20) Third party in-kind contributions means non-cash contributions of property or services provided by non-Federal third parties, including real property, equipment, supplies and other expendable property, directly benefitting and specifically identifiable to a funded project or program.

(21) Total integrated, multifunctional research, education, and extension approach means that the combination of grants (although the individual grants may involve only research, education, or extension activities or a combination thereof) awarded under the fiscal year's program components will work together to address the priorities in United States agriculture as determined by the Secretary of Agriculture in consultation with the Advisory Board, that involve integrated research, extension, and education activities.

D. Eligibility

Proposals may be submitted by colleges and universities as defined in section 1404 of the National Agricultural Research, Extension, and Teaching Policy Act of 1977 (NARETPA). The terms “college” and “university” mean an educational institution in any State which (1) admits as regular students only persons having a certificate of graduation from a school providing secondary education, or the recognized equivalent of such a certificate, (2) is legally authorized within such State to provide a program of education beyond secondary education, (3) provides an educational program for which a bachelor's degree or any other higher degree is awarded, (4) is a public or other nonprofit institution, and (5) is accredited by a nationally recognized accrediting agency or association. Although an applicant may be eligible based on its status as one of these entities, there are factors which may exclude an applicant from receiving Federal financial and nonfinancial assistance and benefits under this program (e.g., debarment or suspension of an individual involved or a determination that an applicant is not responsible based on submitted organizational management information). Eligible applicants may subcontract to organizations not eligible under these requirements.

Please note that a research foundation maintained by a college or university is not eligible to receive an award under this program.

E. Matching Requirements

1. General Requirement

If a grant provides a particular benefit to a specific agricultural commodity, the grant recipient is required to provide funds or in-kind support to match the amount of the grant funds provided. See section 10. c. on “Matching Funds” under Part III, B, “Content of Proposals” for more details.

2. Waiver

CSREES may waive the matching funds requirement specified in the above paragraph for a grant if CSREES determines that (a) the results of the project, while of particular benefit to a specific agricultural commodity, are likely to be applicable to agricultural commodities generally; or (b) the project involves a minor commodity, the project deals with scientifically important research, and the grant recipient is unable to satisfy the matching funds requirement.

F. Funding Restrictions

CSREES has determined that grant funds awarded under this authority may not be used for the renovation or refurbishment of research, education, or extension space; the purchase or installation of fixed equipment in such space; or the planning, repair, rehabilitation, acquisition, or construction of buildings or facilities.

G. Types of Grant Instruments

In FY 2000 all projects will be awarded using a “New Grant” instrument. In future years, projects under the Integrated Research, Education, and Extension Competitive Grants Program authority can be awarded using one of the grant instruments described below:

(1) New grant. This is a grant instrument by which the Department agrees to support a specified level of effort for a project that generally has not been supported previously under this program. This type of grant is approved on the basis of peer review recommendations.

(2) Renewal grant. This is a grant instrument by which the Department agrees to provide additional funding for a project period beyond that approved in an original or amended award, provided that the cumulative period does not exceed the statutory limitation. When a renewal application is submitted, it should include a summary of progress to date from the previous granting period. A renewal grant shall be based upon new application, de novo peer review and staff evaluation, new recommendation and approval, and a new award instrument.

(3) Supplemental grant. This is an instrument by which the department agrees to provide small amounts of additional funding under a new or renewal grant as specified above and may involve a short-term (usually six months or less) extension of the project period beyond that approved in an original or amended award, but in no case may the cumulative period for the project exceed the statutory limitation. A supplement is awarded only if required to assure adequate completion of the original scope of work and if there is sufficient justification to warrant such action. A request of this nature normally will not require additional peer review.

H. Funding Mechanisms

The two mechanisms by which new, renewal, and supplemental grants shall be awarded are as follows:

(1) Standard grant. This is a funding mechanism whereby the Department agrees to support a specified level of effort for a predetermined time period without the announced intention of providing additional support at a future date.

(2) Continuation grant. This is a funding mechanism whereby the Department agrees to support a specified level of effort for a predetermined period of time with a statement of intention to provide additional support at a future date, provided that performance has been satisfactory, appropriations are available for this purpose, and continued support will be in the best interests of the Federal government and the public. This kind of mechanism normally will be awarded for an initial one-year period, and any subsequent continuation project grants will be awarded in one-year increments. The award of a continuation project grant to fund an initial or succeeding budget period does not constitute an obligation to fund any subsequent budget period. Unless prescribed otherwise by CSREES, a grantee must submit a separate application for continued support for each subsequent fiscal year. Requests for such continued support must be submitted in duplicate at least three months prior to the expiration date of the budget period currently being funded. Decisions regarding continued support and the actual funding levels of such support in future years usually will be made administratively after consideration of such factors as the grantee's progress and management practices and the availability of funds. Since initial peer reviews are based upon the full term and scope of the original application, additional evaluations of this type generally are not required prior to successive years' support. However, in unusual cases (e.g., when the nature of the project or key personnel change or when the amount of future support requested substantially exceeds the grant application originally reviewed and approved), additional reviews may be required prior to approving continued funding.

Part II—Program Description

A. Project Types

For Program Areas 1 through 10, the maximum total award is $600,000, and for a project period up to three years. For Program Areas 11 and 12, the maximum total award is $600,000 per year and for a project period up to four years.

Proposals that focus on one functional area (i.e., research only, education only, or extension only) are acceptable. However, applicants should explain how the separate functional area will meet the overall goal of a total integrated, multifunctional research, education, and extension approach.

Applications received in any of the aforementioned program areas should include budgets commensurate with the activities proposed. Grants awarded under Program Description Areas 1 through 10 of this RFP will be issued as “New Grant” instruments and will be awarded as “Standard Grants.” Grants awarded under Program Description Areas 11 and 12 of this RFP will be issued as “New Grant” instruments and may be awarded as “Continuation Grants.”

B. Program Area Description

Integrated research, education, and/or extension proposals that address the following selected priority issues are requested:

For Program Areas 1 through 10:

(Maximum award: $600,000 and up to three years).

(1) Qualitative and Quantitative Risk Assessments (Program Area 111.1)

This category will support the development and testing of comprehensive, qualitative and/or quantitative science-based risk assessments for microbial food-borne pathogens (e.g., Listeria monocytogenes, Campylobacter jejuni, Cyclospora, Salmonella, etc.) and/or their toxins associated with ready-to-eat foods, including those foods that are fresh, minimally processed or processed.

(2) Control Measures for Food-borne Microbial Pathogens (Program Area 111.2)

This category will support the establishment of the scientific bases for, and the development of, models for identifying and validating critical control points, critical limits, and process capability related to control measures for significant food-borne microbial pathogens and/or their toxins in production, processing and distribution of foods.

(3) Sources and Incidence of Microbial Pathogens (Program Area 111.3)

This category will support identification of the sources and incidence of microbial pathogens of animal and human origin that impact on food safety and the development and implementation of strategies for their prevention and control.

(4) Antibiotic Resistant Microbial Pathogens (Program Area 111.4)

This category will support: (a) The identification of factors that lead to the development of antibiotic resistant microbial pathogens related to food safety; (b) the identification and application of measures to prevent antibiotic resistence; and (c) the development and application of alternative approaches to the use of antibiotics.

(5) Improving the Safety of Fresh Fruits and Vegetables (Program Area 111.5)

This category will support the development of projects that focus on improving the safety of fresh and minimally processed imported and domestic fruits and vegetables, which includes: (a) The development of safe and efficacious techniques to enhance or ensure microbiological safety; (b) approaches that relate to post-production, harvesting, handling, transportation, and distribution control measures to the prevention of microbial pathogen infection or cross-contamination; or (c) development of procedures for sampling to accurately detect the presence of microbial pathogens and/or their toxins.

(6) Food Handler Education and Training for Consumers and Youth (Program Area 111.6)

This category will support the development of education and training programs that promote and enhance general food safety and food handler education for youths, adults, and older Americans preparing food in the home. Special emphasis will be given to education efforts that support activities of the Presidential Food Safety Initiative and the Fight BAC campaign of the government and industry-wide Partnership for Food Safety Education. Information about the Presidential Initiative, Fight BAC, and the Partnership for Food Safety Education can be found at the following website: http://www.foodsafety.gov.

(7) Food Handler Education for High-risk and Hard-to-reach Audiences (Program Area 111.7)

This category will support the development of consumer education and training programs for high-risk or under-served groups (i.e. pregnant or nursing mothers, infants, children, the chronically ill, those with limited resources, those with low literacy skills, or those who speak English as a second language). Projects that target families receiving Federal food assistance are encouraged.

(8) Food Handler Education for Commercial and Non-commercial Audiences, Including Food Handler Certification Training and Other Train-the-trainer Programs (Program Area 111.8)

This category will support the development, implementation, and evaluation of train-the-trainer programs for food handlers in commercial and non-commercial settings (e.g., institutional food service, retail establishments, hospitals, health care facilities, day care facilities, congregate meal sites, gleaning and food recovery programs, food banks, soup kitchens, churches, service clubs, etc.). Special emphasis will be given to the development and implementation of food handler certification programs.

(9) Hazard Analysis and Critical Control Points (HACCP) Model Development, Testing, and Implementation (Program Area 111.9)

This category will support the development of projects that focus on the development of HACCP models for education and training in four targeted areas: (a) Minimizing microbial food safety hazards for fresh fruits and vegetables through the development of training and education programs for domestic and international growers and producers; (b) HACCP plan development and implementation in small and very small meat and poultry plants and other small food processing plants; (c) HACCP plan development and implementation in retail establishments, including distribution and transportation sectors of the food industry; (d) HACCP train-the-trainer programs using currently available models, curricula, and materials. HACCP model development must include pilot-testing, model implementation and evaluation. Regional, multi-state, or national workshops focused on training potential users of the HACCP models will be supported and are encouraged.

(10) Integrating Food Safety into Related Agricultural Programs (Program Area 111.10)

This category will support the development of projects that incorporate food safety concepts and food safety education into other topical areas in agriculture including, but not limited to, those focusing on: (a) Water quality; (b) animal waste management; (c) integrated pest management; (d) small farms; and (e) sustainable agriculture. For example, projects in this category might focus on developing educational programs that teach growers and producers how to reduce the risk of food-borne illness by minimizing microbial and pesticide contamination through integrated pest management, the control of pesticide application, water quality, and animal waste management. Priority consideration will be given to proposals that describe multi-disciplinary efforts that include those with expertise in food safety and nutrition.

In addition CSREES is soliciting proposals in the following areas:

For Program Areas 11 and 12:

(Maximum award: $600,000/per year and up to four years)

(11) National Coordination of Integrated Food Safety Programs and Resources (Program Area 111.11)

This category will support the development of integrated food safety resources that facilitate national and international networking and coordination among the various users of food safety information, from production to consumption (i.e. farmers, producers, growers, packers, shippers, retailers, food service workers, processors, inspectors, veterinarians, sanitarians, educators, researchers, consumers, etc.). Special emphasis will be given to the development of databases and interactive software that support decision-making and problem-solving among food safety researchers, educators, consumers, and others. Proposals to support national or regional conferences, multi-user distance education programs, satellite videoteleconferences, and other communication transfer technologies will be supported.

(12) Home Food Processing and Preservation (Program Area 111.12)

This category will support the development of a National Center for Home Food Processing and Preservation. Activities conducted by the Center should include: (a) Reviewing recent research conducted in the public and private sectors on home food processing and preservation techniques, and formulating recommendations for new recipes and guidelines based on the reviews; (b) updating current guidelines on home food processing and preservation; (c) developing and testing new recipes and guidelines on home food processing and preservation methods for specialty foods, ethnic foods, and new varieties of fruits and vegetables; (d) establishing distribution mechanisms for disseminating new guidelines for home food processing and preservation; and (e) identifying areas where further research in home food processing and preservation techniques are needed.

C. Expected Program Outputs and Reporting Requirements

The grantee must prepare an annual report that details all significant activities towards achieving the goals and objectives of the project. The narrative should be succinct and be no longer than five pages, using 12-point, single-spaced type. The report also should include a listing of any students who worked on the project (report graduate degrees awarded and undergraduates trained, as applicable). A budget summary should be attached to this report, which will provide an overview of all monies spent during the reporting period.

Part III—Preparation of a Proposal

A. Program Application Materials

Program application materials are available at the Integrated Research, Education, and Extension Competitive Grants Program website (http://www.reeusda.gov/integrated/). If you do not have access to our web page or have trouble downloading material, you may contact the Proposal Services Unit, Office of Extramural Programs, USDA/CSREES at (202) 401-5048. When calling the Proposal Services Unit, please indicate that you are requesting forms for the Integrated Research, Education, and Extension Competitive Grants Program—National Food Safety Initiative. These materials may also be requested via Internet by sending a message with your name, mailing address (not e-mail) and phone number to psb@reeusda.gov. State that you want a copy of the Program Description and application materials (orange book) for the Fiscal Year 2000 Integrated Research, Education, and Extension Competitive Grants Program—National Food Safety Initiative.

B. Content of Proposals

1. General

The proposal should follow these guidelines, enabling reviewers to more easily evaluate the merits of each proposal in a systematic, consistent fashion:

(a) The proposal should be prepared on only one side of the page using standard size (8 ½″ x 11″) white paper, one inch margins, typed or word processed using no type smaller than 12 point font, and single or double spaced. Use an easily readable font face (e.g., Geneva, Helvetica, Times Roman).

(b) Each page of the proposal, including the Project Summary, budget pages, required forms, and any appendices, should be numbered sequentially.

(c) The proposal should be stapled in the upper left-hand corner. Do not bind. An original and 14 copies (15 total) must be submitted in one package, along with 10 copies of the “Project Summary” as a separate attachment.

(d) If applicable, proposals should include original illustrations (photographs, color prints, etc.) in all copies of the proposal to prevent loss of meaning through poor quality reproduction.

2. Cover Page (Form CSREES-661)

Each copy of each grant proposal must contain an “Application for Funding”, Form CSREES-661. One copy of the application, preferably the original, must contain the pen-and-ink signature(s) of the proposing principal investigator(s)/project director(s)(PI/PD) and the authorized organizational representative who possesses the necessary authority to commit the organization's time and other relevant resources to the project. Any proposed PI/PD or co-PI/PD whose signature does not appear on Form CSREES-661 will not be listed on any resulting grant award. Complete both signature blocks located at the bottom of the “Application for Funding” form.

Form CSREES-661 serves as a source document for the CSREES grant database; it is therefore important that it be completed accurately. The following items are highlighted as having a high potential for errors or misinterpretations:

(a) Title of Project (Block 6). The title of the project must be brief (80-character maximum), yet represent the major thrust of the effort being proposed. Project titles are read by a variety of nonscientific people; therefore, highly technical words or phraseology should be avoided where possible. In addition, introductory phrases such as “investigation of” or “research on” “education for” or “outreach that” should not be used.

(b) Program to Which You Are Applying (Block 7). “Integrated Research, Education, and Extension Competitive Grants Program—National Food Safety Initiative.”

(c) Program Area and Number (Block 8). The name of the program component, e.g. Qualitative and Quantitative Risk Assessments, 111.1 or Control Measures for Food-borne Microbial Pathogens, 111.2 should be inserted in this block.

(d) Type of Award Request (Block 13). Check the block for “new.”

(e) Principal Investigator(s)/Project Director(s) (PI/PD) (Block 15). The designation of excessive numbers of co-PI/PD's creates problems during final review and award processing. Listing multiple co-PI/PD's, beyond those required for genuine collaboration, is therefore discouraged. Note that providing a Social Security Number is voluntary, but is an integral part of the CSREES information system and will assist in the processing of the proposal.

(f) Type of Performing Organization (Block 18). A check should be placed in the box beside the type of organization which actually will carry out the effort. For example, if the proposal is being submitted by an 1862 Land-Grant Institution but the work will be performed in a department, laboratory, or other organizational unit of an agricultural experiment station, box “03” should be checked. If portions of the effort are to be performed in several departments, check the box that applies to the individual listed as PI/PD #1 in Block 15.a.

(g) Other Possible Sponsors (Block 22). List the names or acronyms of all other public or private sponsors including other agencies within USDA and other programs funded by CSREES to whom your application has been or might be sent. In the event you decide to send your application to another organization or agency at a later date, you must inform the identified CSREES Program Director as soon as practicable. Submitting your proposal to other potential sponsors will not prejudice its review by CSREES; however, duplicate support for the same project will not be provided. Complete the “Application for Funding,” Form CSREES-661, in its entirety.

(h) One copy of the “Application for Funding” form must contain the signatures (in ink) of the PI/PD's and authorized organizational representative for the applicant organization.

3. Table of Contents

For consistency and ease in locating information, each proposal must contain a detailed Table of Contents just after the cover page. The Table of Contents should contain page numbers for each component of the proposal. Page numbers should begin with the first page of the Project Description.

4. Project Summary

The proposal must contain a Project Summary of 250 words or less on a separate page which should be placed immediately after the Table of Contents and should not be numbered. The names and institutions of all PI/PD's and co-PI/PD's should be listed on this form, in addition to the title of the project. The summary should be a self-contained, specific description of the activity to be undertaken and should focus on: overall project goal(s) and supporting objectives; plans to accomplish project goal(s); and relevance of the project to the goals of the National Food Safety Initiative. The importance of a concise, informative Project Summary cannot be overemphasized.

5. Project Description

The Project Description may not exceed a total of 18 pages including figures and tables.

(a) Justification: This section should include in-depth information on the following, when applicable:

(i) a statement must be given at the beginning of the justification that clearly identifies the area(s) in Part II B that is (are) addressed in the proposal;

(ii) estimates of the magnitude of the food safety problem and its relevance to ongoing National food and agricultural research programs; and

(iii) reasons for having the work performed by the proposing institution.

(b) Objectives: Clear, concise, complete, and logically arranged statement(s) of specific aims of the proposed effort must be included in all proposals.

(c) Methodology: The procedures or methodology to be applied to the proposed effort should be explicitly stated. This section should include but not necessarily be limited to:

(i) a description of the proposed activities and the sequence in which they will be carried out;

(ii) procedures, techniques, methodologies, or approaches to be employed, including their feasibility;

(iii) kinds of results or expected outcomes;

(iv) evaluation methods or means by which data/information will be analyzed or interpreted;

(v) problems that might be encountered; and

(vi) limitations to proposed procedures, techniques, methodologies, or approaches.

(d) Literature Review: A summary of pertinent publications with emphasis of their relationship to the effort being proposed should be provided and should include all important and recent publications from other institutions, as well as those from the applicant institution. The citations themselves should be accurate, complete, and written in an acceptable journal format.

(e) Current Work: Current unpublished institutional activities “to date” in the program area under which the proposal is being submitted should be described.

(f) Cooperation and Institutional Units Involved: Cooperative, multi-institutional and multidisciplinary applications are encouraged. Identify each institutional unit contributing to the project and designate the lead institution or institutional unit. When appropriate, the project should be coordinated with the efforts of other State and/or national programs. Clearly define the roles and responsibilities of each institutional unit of the project team, if applicable.

(g) Equipment and Facilities: All facilities which are available for use or assignment to the project during the requested period of support should be reported and described briefly. Any potentially hazardous materials, procedures, situations, or activities, whether or not directly related to a particular phase of the effort, must be explained fully, along with an outline of the precautions to be exercised. Examples include work with toxic chemicals and experiments that may put human subjects or animals at risk. All items of major instrumentation available for use or assignment to the proposed project should be itemized. In addition, items of non-expendable equipment needed to conduct and bring the project to a successful conclusion should be listed, including dollar amounts and, if funds are requested for their acquisition, justified.

(h) Project Timetable: The proposal should outline all important phases as a function of time, year by year, for the entire project, including periods beyond the grant funding period.

An applicant for the National Center for Home Food Processing and Preservation should include a management plan to ensure efficient administration of the grant and how activities will be integrated across collaborators.

6. Appendices to Project Description

Appendices to the Project Description are allowed if they are directly germane to the proposed project and are limited to a total of two of the following: Reprints (papers that have been published in peer reviewed journals) and preprints (manuscripts in press for a peer reviewed journal; these must be accompanied by a letter of acceptance from the publishing journal).

7. Key Personnel

All senior personnel who are expected to be involved in the effort must be clearly identified. For each person, the following should be included:

a. The roles and responsibilities of each PI/PD and/or collaborator should be clearly described;

b. An estimate of the time commitment involved for each PI/PD and/or collaborator; and

c. Vitae of each PI/PD, senior associate, and other professional personnel. This section should include vitae of all key persons who are expected to work on the project, whether or not CSREES funds are sought for their support. The vitae should be limited to two (2) pages each in length, excluding publications listings. A chronological list of all publications in refereed journals during the past four (4) years, including those in press, must be provided for each project member for which a curriculum vitae is provided. Also list only those non-refereed technical publications that have relevance to the proposed project. All authors should be listed in the same order as they appear on each paper cited, along with the title and complete reference as these usually appear in journals.

8. Conflict-of-Interest List

A Conflict-of-Interest List must be provided for all individuals involved in the project (identified as key personnel). Each list should be on a separate page and include alphabetically the full names of the individuals in the following categories: (a) All collaborators on projects within the past four years, including current and planned collaborations; (b) all co-authors on publications within the past four years, including pending publications and submissions; (c) all persons in your field with whom you have had a consulting or financial arrangement within the past four years, who stand to gain by seeing the project funded; and (d) all thesis or postdoctoral advisees/advisors within the past four years (some may wish to call these life-time conflicts). This form is necessary to assist program staff in excluding from proposal review those individuals who have conflicts-of-interest with the personnel in the grant proposal. The Program Director must be informed of any additional conflicts-of-interest that arise after the proposal is submitted.

9. Collaborative and/or Subcontractual Arrangements

If it will be necessary to enter into formal consulting or collaborative arrangements with others, such arrangements should be fully explained and justified. In addition, evidence should be provided that the collaborators involved have agreed to render these services. If the need for consultant services is anticipated, the proposal narrative should provide a justification for the use of such services, a statement of work to be performed, and a resume or curriculum vita for each consultant. For purposes of proposal development, informal day-to-day contacts between key project personnel and outside experts are not considered to be collaborative arrangements and thus do not need to be detailed.

All anticipated subcontractual arrangements also should be explained and justified in this section. A proposed statement of work and a budget for each arrangement involving the transfer of substantive programmatic work or the providing of financial assistance to a third party must be provided. Agreements between departments or other units of your own institution and minor arrangements with entities outside of your institution (e.g., requests for outside laboratory analyses) are excluded from this requirement.

If you expect to enter into subcontractual arrangements, please note that the provisions contained in 7 CFR Part 3019, USDA Uniform Administrative Requirements for Grant and Other Agreements with Institutions of Higher Education, Hospitals, and Other Non-Profit Organizations, and the general provisions contained in 7 CFR Part 3015.205, USDA Uniform Federal Assistance Regulations, flow down to subrecipients. In addition, required clauses from Sections 40-48 (“Procurement Standards”) and Appendix A (“Contract Provisions”) to 7 CFR Part 3019 should be included in final contractual documents, and it is necessary for the subawardee to make a certification relating to debarment/suspension.

10. Budget (Form CSREES-55)

a. Budget Form. Prepare the budget, Form CSREES-55, in accordance with instructions provided. A budget form is required for each year of requested support. In addition, a cumulative budget is required detailing the requested total support for the overall project period. The budget form may be reproduced as needed by applicants. Funds may be requested under any of the categories listed on the form, provided that the item or service for which support is requested is allowable under the authorizing legislation, the applicable Federal cost principles, and these program guidelines, and can be justified as necessary for the successful conduct of the proposed project. Applicants must also include a Budget Narrative to justify their budgets (see section b below.)

The following guidelines should be used in developing your proposal budget(s):

1. Salaries and Wages. Salaries and wages are allowable charges and may be requested for personnel who will be working on the project in proportion to the time such personnel will devote to the project. If salary funds are requested, the number of Senior and Other Personnel and the number of CSREES-Funded Work Months must be shown in the spaces provided. Grant funds may not be used to augment the total salary or rate of salary of project personnel or to reimburse them for time in addition to a regular full-time salary covering the same general period of employment. Salary funds requested must be consistent with the normal policies of the institution.

2. Fringe Benefits. Funds may be requested for fringe benefit costs if the usual accounting practices of your organization provide that organizational contributions to employee benefits (social security, retirement, etc.) be treated as direct costs. Fringe benefit costs may be included only for those personnel whose salaries are charged as a direct cost to the project.

3. Nonexpendable Equipment. Nonexpendable equipment means tangible nonexpendable personal property including exempt property charged directly to the award having a useful life of more than one year and an acquisition cost of $5,000 (or lower depending on institutional policy) or more per unit. As such, items of necessary instrumentation or other nonexpendable equipment should be listed individually by description and estimated cost in the Budget Narrative. This applies to revised budgets as well, as the equipment item(s) and amount(s) may change.

4. Materials and Supplies. The types of expendable materials and supplies which are required to carry out the project should be indicated in general terms with estimated costs in the Budget Narrative.

5. Travel. The type and extent of travel and its relationship to project objectives should be described briefly and justified. If foreign travel is proposed, the country to be visited, the specific purpose of the travel, a brief itinerary, inclusive dates of travel, and estimated cost must be provided for each trip. Airfare allowances normally will not exceed round-trip jet economy air accommodations. U.S. flag carriers must be used when available. See 7 CFR Part 3015.205(b)(4) for further guidance.

6. Publication Costs/Page Charges. Include anticipated costs associated with publications in a journal (preparing and publishing results including page charges, necessary illustrations, and the cost of a reasonable number of coverless reprints) and audio-visual materials that will be produced. Photocopying and printing brochure, etc., should be shown in Section I., “All Other Direct Costs” of Form CSREES-55.

7. Computer (ADPE) Costs. Reimbursement for the costs of using specialized facilities (such as a university- or department-controlled computer mainframe or data processing center) may be requested if such services are required for completion of the work.

8. All Other Direct Costs. Anticipated direct project charges not included in other budget categories must be itemized with estimated costs and justified in the Budget Narrative. This also applies to revised budgets, as the item(s) and dollar amount(s) may change. Examples may include space rental at remote locations, subcontractual costs, and charges for consulting services, telephone, facsimile, shipping costs, and fees necessary for laboratory analyses. You are encouraged to consult the “Instructions for Completing Form CSREES-55, Budget,” of the Application Kit for detailed guidance relating to this budget category. Form AD-1048 must be completed by each subcontractor or consultant and retained by the grantee.

9. Indirect Costs. Section 1462 of the National Agricultural Research, Extension, and Teaching Policy Act of 1977 (7 U.S.C. 3310) limits indirect costs for this program to 19 percent of total Federal funds provided under each award. Therefore the recovery of indirect costs under this program may not exceed the lesser of the institution's official negotiated indirect cost rate or the equivalent of 19 percent of total Federal funds awarded. If no rate has been negotiated, a reasonable dollar amount (equivalent to less than 19 percent of total Federal funds requested) in lieu of indirect costs may be requested, subject to approval by USDA.

b. Budget Narrative. All budget categories, with the exception of Indirect Costs for which support is requested, must be individually listed (with costs) and justified on a separate sheet of paper and placed immediately behind the Budget Form. Explanations of matching funds or lack thereof on commodity-specific projects also are to be included in this section.

c. Matching Funds. If an applicant concludes that matching funds are not required as specified under Part I (e), a justification should be included in the Budget Narrative. CSREES will consider this justification when ascertaining final matching requirements or in determining if required matching can be waived. CSREES retains the right to make final determinations regarding matching requirements.

For those grants requiring matching funds as specified under Part I (e), proposals should include written verification of commitments of matching support (including both cash and in-kind contributions) from third parties. Written verification means:

(a) For any third party cash contributions, a separate pledge agreement for each donation, signed by the authorized organizational representatives of the donor organization and the applicant organization, which must include: (1) The name, address, and telephone number of the donor; (2) the name of the applicant organization; (3) the title of the project for which the donation is made; (4) the dollar amount of the cash donation; and (5) a statement that the donor will pay the cash contribution during the grant period; and

(b) For any third party in-kind contributions, a separate pledge agreement for each contribution, signed by the authorized organizational representatives of the donor organization and the applicant organization, which must include: (1) The name, address, and telephone number of the donor; (2) the name of the applicant organization; (3) the title of the project for which the donation is made; (4) a good faith estimate of the current fair market value of the third party in-kind contribution; and (5) a statement that the donor will make the contribution during the grant period.

The sources and amount of all matching support from outside the applicant institution should be summarized on a separate page and placed in the proposal immediately following the Budget Narrative. All pledge agreements must be placed in the proposal immediately following the summary of matching support.

The value of applicant contributions to the project shall be established in accordance with applicable cost principles. Applicants should refer to OMB Circular A-21, Cost Principles for Educational Institutions, for further guidance and other requirements relating to matching and allowable costs.

11. Current and Pending Support (Form CSREES-663)

All proposals must contain Form CSREES-663 listing other current public or private support (including in-house support) to which key personnel identified in the proposal have committed portions of their time, whether or not salary support for person(s) involved is included in the budget. Analogous information must be provided for any pending proposals that are being considered by, or that will be submitted in the near future to, other possible sponsors, including other USDA Programs or agencies. Concurrent submission of identical or similar proposals to the possible sponsors will not prejudice proposal review or evaluation by the CSREES for this purpose. However, a proposal that duplicates or overlaps substantially with a proposal already reviewed and funded (or to be funded) by another organization or agency will not be funded under this program. Note that the project being proposed should be included in the pending section of the form.

12. Assurance Statement(s), (Form CSREES-662)

A number of situations encountered in the conduct of projects require special assurances, supporting documentation, etc., before funding can be approved for the project. In addition to any other situation that may exist with regard to a particular project, it is expected that some applications submitted in response to these guidelines will involve the following:

a. Recombinant DNA or RNA Research. As stated in 7 CFR Part 3015.205 (b)(3), all key personnel identified in the proposal and all endorsing officials of the proposing organization are required to comply with the guidelines established by the National Institutes of Health entitled, “Guidelines for Research Involving Recombinant DNA Molecules,” as revised. If your project proposes to use recombinant DNA or RNA techniques, you must so indicate by checking the “yes” box in Block 19 of Form CSREES-661 (the Cover Page) and by completing Section A of Form CSREES-662. For applicable proposals recommended for funding, Institutional Biosafety Committee approval is required before CSREES funds will be released.

b. Animal Care. Responsibility for the humane care and treatment of live vertebrate animals used in any grant project supported with funds provided by CSREES rests with the performing organization. Where a project involves the use of living vertebrate animals for experimental purposes, all key project personnel identified in a proposal and all endorsing officials of the proposing organization are required to comply with the applicable provisions of the Animal Welfare Act of 1966, as amended (7 U.S.C. 2131 et seq.) and the regulations promulgated thereunder by the Secretary in 9 CFR Parts 1, 2, 3, and 4 pertaining to the care, handling, and treatment of these animals. If your project will involve these animals, you should check “yes” in block 20 of Form CSREES-661 and complete Section B of Form CSREES-662. In the event a project involving the use of live vertebrate animals results in a grant award, funds will be released only after the Institutional Animal Care and Use Committee has approved the project.

c. Protection of Human Subjects. Responsibility for safeguarding the rights and welfare of human subjects used in any grant project supported with funds provided by CSREES rests with the performing organization. Guidance on this issue is contained in the National Research Act, Pub. L. No. 93-348, as amended, and implementing regulations promulgated by the Department under 7 CFR Part 1c. If you propose to use human subjects for experimental purposes in your project, you should check the “yes” box in Block 21 of Form CSREES-661 and complete Section C of Form CSREES-662. In the event a project involving human subjects results in a grant award, funds will be released only after the appropriate Institutional Review Board has approved the project.

13. Certifications

Note that by signing Form CSREES-661 the applicant is providing the certifications required by 7 CFR Part 3017, as amended, regarding Debarment and Suspension and Drug Free Workplace, and 7 CFR Part 3018, regarding Lobbying. The certification forms are included in the application package for informational purposes only. These forms should not be submitted with the proposal since by signing form CSREES-661 your organization is providing the required certifications. If the project will involve a subcontractor or consultant, the subcontractor/consultant should submit a form AD-1048 to the grantee organization for retention in their records. This form should not be submitted to USDA.

14. Compliance with the National Environmental Policy Act (NEPA) (Form CSREES-1234)

As outlined in 7 CFR Part 3407 (the Cooperative State Research, Education, and Extension Service regulations implementing NEPA), the environmental data for any proposed project is to be provided to CSREES so that CSREES may determine whether any further action is needed. In some cases, however, the preparation of environmental data may not be required. Certain categories of actions are excluded from the requirements of NEPA.

In order for CSREES to determine whether any further action is needed with respect to NEPA, pertinent information regarding the possible environmental impacts of a particular project is necessary; therefore, Form CSREES-1234, “NEPA Exclusions Form,” must be included in the proposal indicating whether the applicant is of the opinion that the project falls within a categorical exclusion and the reasons therefore. If it is the applicant's opinion that the proposed project falls within the categorical exclusions, the specific exclusion must be identified. Form CSREES-1234 and supporting documentation should be included as the last page of this proposal.

Even though a project may fall within the categorical exclusions, CSREES may determine that an Environmental Assessment or an Environmental Impact Statement is necessary for an activity, if substantial controversy on environmental grounds exists or if other extraordinary conditions or circumstances are present which may cause such activity to have a significant environmental effect.

C. Submission of Proposals

1. When To Submit (Deadline Date)

Proposals must be transmitted by June 6, 2000, as indicated by postmark or date of courier bill of lading. Proposals transmitted after this date will not be considered for funding.

2. What To Submit

An original and 14 copies must be submitted. In addition submit 10 copies of the proposal's Project Summary. All copies of the proposals and the Project Summaries must be submitted in one package.

3. Where To Submit

Applicants are strongly encouraged to submit completed proposals via overnight mail or delivery service to ensure timely receipt by the USDA. The address for hand-delivered proposals or proposals submitted using an express mail or overnight courier service is: Integrated Research, Education, and Extension Competitive Grants Program—National Food Safety Initiative; c/o Proposal Services Unit; Cooperative State Research, Education, and Extension Service; U.S. Department of Agriculture; Room 303, Aerospace Center; 901 D Street, S.W.; Washington, D.C. 20024.

Proposals sent via the U.S. Postal Service must be sent to the following address: Integrated Research, Education, and Extension Competitive Grants Program—National Food Safety Initiative; c/o Proposal Services Unit; Cooperative State Research, Education, and Extension Service; U.S. Department of Agriculture; STOP 2245; 1400 Independence Avenue, S.W.; Washington, D.C. 20250-2245.

D. Acknowledgment of Proposals

The receipt of all proposals will be acknowledged by e-mail. Therefore, applicants are encouraged to provide e-mail addresses, where designated, on the Form CSREES-661. If the applicant's e-mail address is not indicated, CSREES will acknowledge receipt of the proposal by letter.

Once the proposal has been assigned an identification number, please cite that number on all future correspondence. If the applicant does not receive an acknowledgment within 60 days of the submission deadline, please contact the Program Director.

Part IV—Review Process

A. General

Each proposal will be evaluated in a 2-part process. First, each proposal will be screened to ensure that it meets the administrative requirements as set forth in this request for proposals. Second, proposals that meet these requirements will be technically evaluated by a peer review panel.

Peer review panel members will be selected based upon their training and experience in relevant scientific, education or extension fields taking into account the following factors: (a) The level of formal scientific, technical education, and extension experience of the individual, as well as the extent to which an individual is engaged in relevant research, education and/or extension activities; (b) the need to include as peer reviewers experts from various areas of specialization within relevant scientific, education, and extension fields; (c) the need to include as reviewers other experts (producers, range or forest managers/operators, consumers, etc.) who can assess relevance of the proposals to targeted audiences and to program needs; (d) the need to include as peer reviewers experts from a variety of organizational types (e.g., colleges, universities, industry, state and Federal agencies, private profit and non-profit organizations), and geographic locations; (e) the need to maintain a balanced composition of peer review groups with regard to minority and female representation and an equitable age distribution; and (f) the need to include members that can judge the effective usefulness to producers and the general public of each proposal.

B. Evaluation Factors

The evaluation factors below will be used in reviewing applications submitted in response to this request for proposals:

(1) Overall merit of the proposal.

(a) The project goal, approach, or hypothesis is conceptually adequate and related to selected priority issues identified in the request for proposals;

(b) Objectives are clearly described and related to selected priority issues identified in the request for proposals;

(c) There is a demonstrated need for the project;

(d) The target audience(s) is identified (where appropriate);

(e) The proposed technique, procedure, or methodology is clearly described;

(f) The technique, procedure, or methodology is suitable and feasible for the proposed project;

(g) The evaluation procedures, or means by which data will be analyzed and interpreted, are clearly described and are suitable for the proposed project;

(h) The expected results or outcomes are clearly stated; and (i) The probability of success of the project is indicated.

(2) Qualifications of the proposed project personnel, adequacy of the facilities, and budget request.

(a) The roles of all project personnel are clearly defined;

(b) There is evidence that project personnel have sufficient expertise needed to complete the project;

(c) There is evidence of partnerships with other disciplines and institutions;

(d) There is sufficient time allocated for systematic attainment of objectives;

(e) There is evidence of institutional experience and competence in the identified area of work;

(f) There is adequate support personnel, facilities, and instrumentation;

(g) All necessary budget information is provided and all figures are tallied correctly;

(h) The budget narrative provides adequate justification for all budget categories; and

(i) The proposed budget is appropriate for the scope of the project.

(3) The relevance of the proposed project to current issues in food safety and related topical areas.

(a) The relevance to current issues in food safety is described; and

(b) The project makes a unique and original contribution to food safety.

Proposals submitted for the National Center for Home Food Processing and Preservation also will be judged on the quality of the management plan that is proposed.

Priority will be given for integrated, multifunctional research, education, and extension projects.

C. Conflicts-of-Interest and Confidentiality

During the peer evaluation process, extreme care will be taken to prevent any actual or perceived conflicts-of-interest that may impact review or evaluation. For the purpose of determining conflicts-of-interest, the academic and administrative autonomy of an institution shall be determined by reference to the January 1998 issue of the Codebook for Compatible Statistical Reporting of Federal Support to Universities, Colleges, and Nonprofit Institutions, prepared by Quantum Research Corporation for the National Science Foundation.

Names of submitting institutions and individuals, as well as proposal content and peer evaluations, will be kept confidential, except to those involved in the review process, to the extent permitted by law. In addition, the identities of peer reviewers will remain confidential throughout the entire review process. Therefore, the names of the reviewers will not be released to applicants. At the end of the fiscal year, names of panelists will be made available in such a way that the panelists cannot be identified with the review of any particular proposal.

Part V—Additional Information

A. Access To Review Information

Copies of summary reviews, not including the identity of reviewers, will be sent to the applicant PI/PD after the review process has been completed.

B. Grant Awards

(1) General

Within the limit of funds available for such purpose, the awarding official of CSREES shall make grants to those responsible, eligible applicants whose proposals are judged most meritorious under the procedures set forth in this RFP. The date specified by the awarding official of CSREES as the effective date of the grant shall be no later than September 30 of the Federal fiscal year in which the project is approved for support and funds are appropriated for such purpose, unless otherwise permitted by law. It should be noted that the project need not be initiated on the grant effective date, but as soon thereafter as practical so that project goals may be attained within the funded project period. All funds granted by CSREES under this RFP shall be expended solely for the purpose for which the funds are granted in accordance with the approved application and budget, the regulations, the terms and conditions of the award, the applicable Federal cost principles, and the Department's assistance regulations (parts 3015 and 3019 of 7 CFR).

(2) Organizational Management Information

Specific management information relating to an applicant shall be submitted on a one-time basis as part of the responsibility determination prior to the award of a grant identified under this RFP, if such information has not been provided previously under this or another CSREES program. CSREES will provide copies of forms recommended for use in fulfilling these requirements as part of the preaward process.

(3) Grant Award Document and Notice of Grant Award

The grant award document shall include at a minimum the following:

(a) Legal name and address of performing organization or institution to whom the Administrator has awarded a grant under the terms of this request for proposals;

(b) Title of project;

(c) Name(s) and address(es) of PI/PD's chosen to direct and control approved activities;

(d) Identifying grant number assigned by the Department;

(e) Project period, specifying the amount of time the Department intends to support the project without requiring recompetition for funds;

(f) Total amount of Departmental financial assistance approved by the Administrator during the project period;

(g) Legal authority(ies) under which the grant is awarded;

(h) Approved budget plan for categorizing allocable project funds to accomplish the stated purpose of the grant award; and

(i) Other information or provisions deemed necessary by CSREES to carry out its respective granting activities or to accomplish the purpose of a particular grant.

The notice of grant award, in the form of a letter, will be prepared and will provide pertinent instructions or information to the grantee that is not included in the grant award document.

C. Use of Funds; Changes

(1) Delegation of Fiscal Responsibility

Unless the terms and conditions of the grant state otherwise, the grantee may not in whole or in part delegate or transfer to another person, institution, or organization the responsibility for use or expenditure of grant funds.

(2) Changes in Project Plans

(a) The permissible changes by the grantee, PI/PD(s), or other key project personnel in the approved project grant shall be limited to changes in methodology, techniques, or other aspects of the project to expedite achievement of the project's approved goals. If the grantee and/or the PI/PD(s) are uncertain as to whether a change complies with this provision, the question must be referred to the CSREES Authorized Departmental Officer (ADO) for a final determination.

(b) Changes in approved goals or objectives shall be requested by the grantee and approved in writing by the ADO prior to effecting such changes. In no event shall requests for such changes be approved which are outside the scope of the original approved project.

(c) Changes in approved project leadership or the replacement or reassignment of other key project personnel shall be requested by the grantee and approved in writing by the awarding official of CSREES prior to effecting such changes.

(d) Transfers of actual performance of the substantive programmatic work in whole or in part and provisions for payment of funds, whether or not Federal funds are involved, shall be requested by the grantee and approved in writing by the ADO prior to effecting such transfers, unless prescribed otherwise in the terms and conditions of the grant.

(e) Changes in Project Period: The project period may be extended by CSREES without additional financial support, for such additional period(s) as the ADO determines may be necessary to complete or fulfill the purposes of an approved project, but in no case shall the total project period exceed five years. Any extension of time shall be conditioned upon prior request by the grantee and approval in writing by the ADO, unless prescribed otherwise in the terms and conditions of a grant.

(f) Changes in Approved Budget: Changes in an approved budget must be requested by the grantee and approved in writing by the ADO prior to instituting such changes if the revision will involve transfers or expenditures of amounts requiring prior approval as set forth in the applicable Federal cost principles, Departmental regulations, or in the grant award.

D. Applicable Federal Statutes and Regulations

Several Federal statutes and regulations apply to grant proposals considered for review and to project grants awarded under this program. These include, but are not limited to:

7 CFR Part 1.1—USDA implementation of the Freedom of Information Act.

7 CFR Part 3—USDA implementation of OMB Circular No. A-129 regarding debt collection.

7 CFR Part 15, subpart A—USDA implementation of Title VI of the Civil Rights Act of 1964, as amended.

7 CFR Part 3015—USDA Uniform Federal Assistance Regulations, implementing OMB directives (i.e., Circular Nos. A-21 and A-122) and incorporating provisions of 31 U.S.C. 6301-6308 (the Federal Grant and Cooperative Agreement Act of 1977, Pub. L. No. 95-224), as well as general policy requirements applicable to recipients of Departmental financial assistance.

7 CFR Part 3017—USDA implementation of Governmentwide Debarment and Suspension (Nonprocurement) and Governmentwide Requirements for Drug-Free Workplace (Grants).

7 CFR Part 3018—USDA implementation of Restrictions on Lobbying. Imposes prohibitions and requirements for disclosure and certification related to lobbying on recipients of Federal contracts, grants, cooperative agreements, and loans.

7 CFR Part 3019—USDA implementation of OMB Circular A-110, Uniform Administrative Requirements for Grants and Other Agreements With Institutions of Higher Education, Hospitals, and Other Nonprofit Organizations.

7 CFR Part 3052—USDA implementation of OMB Circular No. A-133, Audits of States, Local Governments, and Non-profit Organizations.

7 CFR Part 3407—CSREES procedures to implement the National Environmental Policy Act of 1969, as amended.

29 U.S.C. 794 (section 504, Rehabilitation Act of 1973) and 7 CFR Part 15B (USDA implementation of statute)—prohibiting discrimination based upon physical or mental handicap in Federally assisted programs.

35 U.S.C. 200 et seq.—Bayh-Dole Act, controlling allocation of rights to inventions made by employees of small business firms and domestic nonprofit organizations, including universities, in Federally assisted programs (implementing regulations are contained in 37 CFR Part 401).

E. Confidential Aspects of Proposals and Awards

When a proposal results in a grant, it becomes a part of the record of CSREES transactions, available to the public upon specific request. Information that the Secretary determines to be of a confidential, privileged, or proprietary nature will be held in confidence to the extent permitted by law. Therefore, any information that the applicant wishes to have considered as confidential, privileged, or proprietary should be clearly marked within the proposal. The original copy of a proposal that does not result in a grant will be retained by the Agency for a period of one year. Other copies will be destroyed. Such a proposal will be released only with the consent of the applicant or to the extent required by law. A proposal may be withdrawn at any time prior to the final action thereon.

F. Regulatory Information

For the reasons set forth in the final Rule-related Notice to 7 CFR part 3015, subpart V (48 FR 29115, June 24, 1983), this program is excluded from the scope of the Executive Order 12372 which requires intergovernmental consultation with State and local officials. Under the provisions of the Paperwork Reduction Act of 1995, as amended (44 U.S.C. chapter 35), the collection of information requirements contained in this Notice have been approved under OMB Document No. 0524-0022.

Done at Washington, D.C., this 4th day of April 2000.
Charles W. Laughlin,
Administrator, Cooperative State Research, Education, and Extension Service.

[FR Doc. 00-8642 Filed 4-4-00; 2:36 pm]

BILLING CODE 3410-22-P